DEPARTMENT OF COMMERCE

United States Patent and Trademark Office

[Docket No.: PTO-P-2010-0042]

Elimination of Classification Requirement in the Green Technology Pilot Program

AGENCY: United States Patent and Trademark Office, Commerce.

ACTION: Notice.

SUMMARY: The United States Patent and Trademark Office (USPTO) implemented the Green Technology Pilot Program on December 8, 2009, which permits patent applications pertaining to environmental quality, energy conservation, development of renewable energy resources, and greenhouse gas emission reduction to be advanced out of turn for examination and reviewed earlier (accorded special status). The program is designed to promote the development of green technologies. However, the pilot program was limited to only applications classified in a number of U.S. classifications to assist the USPTO to balance the workload and gauge resources needed for the program. The USPTO has determined that the classification requirement is unnecessary because the workload has been balanced with other mechanism, and this requirement was causing the denial of petitions for applications that are drawn to green technologies. The USPTO is hereby eliminating the classification requirement for any petitions that are decided on or after the publication date of this notice. This will permit more applications to qualify for the program, thereby allowing more inventions related to green technologies to be advanced out of turn for examination and reviewed earlier.

DATES: Effective Date: This change to the Green Technology Pilot Program is effective May 21, 2010.

Duration: The Green Technology Pilot Program will run for twelve months from December 8, 2009, and the USPTO will only accept the first 3,000 grantable petitions to make special under the Green Technology Pilot Program in new applications filed before December 8, 2009. Accordingly, if less than 3,000 grantable petitions are received, the pilot program will end on December 8, 2010.

FOR FURTHER INFORMATION CONTACT: Pinchus M. Laufer and Joni Y. Chang, Senior Legal Advisors, Office of Patent Legal Administration, Office of the Associate Commissioner for Patent Examination Policy, by telephone at 571-272-7726 or 571-272-7720; by facsimile transmission to 571-273-7726, marked to the attention of Pinchus M. Laufer; or by mail addressed to: Mail Stop Comments Patents, Commissioner for Patents, P.O. Box 1450, Alexandria, VA 22313-1450.

SUPPLEMENTARY INFORMATION: The USPTO published a notice for the implementation of the Green Technology Pilot Program on December 8, 2009. See Pilot Program for Green Technologies Including Greenhouse Gas Reduction, 74 FR 64666 (December 8, 2009), 1349 Off. Gaz. Pat. Office 362 (December 29, 2009) (Green Technology Notice). The Green Technology Notice indicated that an applicant may have an application advanced out of turn (accorded special status) for examination, if the application pertained to green technologies including greenhouse gas reduction (applications pertaining to environmental quality, energy conservation, development of renewable energy resources or greenhouse gas emission reduction) and met other requirements specified in the Green Technology Notice. The pilot program was designed to promote the development of green technologies. The USPTO received positive feedback and suggestions from the stakeholders regarding the pilot program.

The Green Technology Notice required inter alia that the application be classified in one of the U.S. classifications listed in the Green Technology Notice to be accorded special status under the Green Technology Pilot Program. Limiting the pilot program to only applications classified in these U.S. classifications assisted the USPTO to balance the workload and gauge resources needed for the program. The USPTO has determined that the classification requirement in the Green Technology Notice is unnecessary because the workload has been balanced with other mechanism, and this requirement was causing the denial of petitions for applications that are drawn to green technologies. Therefore, the USPTO is hereby eliminating the classification requirement for any petitions that are decided on or after the publication date of this notice. This will permit more applications to qualify for the pilot program, thereby allowing more inventions related to green technologies to be advanced out of turn for examination and reviewed earlier. Applicants whose petitions were dismissed or denied solely on the basis that their applications did not meet the classification requirement may file a renewed petition. If the renewed petition is filed within one month of the publication date of this notice, it will be given priority as of the date applicant filed the initial petition.

To participate in the pilot program, applicant must file a petition to make special under the Green Technology Pilot Program that satisfies all other requirements set forth in the Green Technology Notice. For example, to satisfy the eligibility requirements, the petition must contain the following statements. The petition must include a statement providing the basis for the special status (e.g., for an application pertaining to environmental quality, the petition must state that special status is sought because the invention materially enhances the quality of the environment by contributing to the restoration or maintenance of the basic life-sustaining natural elements). The petition must also include a statement explaining how the materiality standard is met, unless (1) the application clearly discloses that the claimed invention materially enhances the quality of the environment by contributing to the restoration or maintenance of one of the basic life-sustaining natural elements, or (2) the application disclosure is clear on its face that the claimed invention materially contributes to (a) development of renewable energy or energy conservation, or (b) greenhouse gas emission reduction.

Dated: May 12, 2010.
David J. Kappos,
Under Secretary of Commerce for Intellectual Property and Director of the United States Patent and Trademark Office.

[FR Doc. 2010-12328 Filed 5-20-10; 8:45 am]

BILLING CODE 3510-16-P